DEPARTMENT OF LABOR

Employment and Training Administration

Notice of Determinations Regarding Eligibility To Apply for Worker Adjustment Assistance

In accordance with section 223 of the Trade Act of 1974, as amended (19 U.S.C. 2273) the Department of Labor herein presents summaries of determinations regarding eligibility to apply for trade adjustment assistance for workers by (TA-W) number issued during the period of December 14, 2015 through January 8, 2016.

In order for an affirmative determination to be made for workers of a primary firm and a certification issued regarding eligibility to apply for worker adjustment assistance, each of the group eligibility requirements of section 222(a) of the Act must be met.

I. Under section 222(a)(2)(A), the following must be satisfied:

(1) a significant number or proportion of the workers in such workers' firm have become totally or partially separated, or are threatened to become totally or partially separated;

(2) the sales or production, or both, of such firm have decreased absolutely; and

(3) One of the following must be satisfied:

(A) imports of articles or services like or directly competitive with articles produced or services supplied by such firm have increased;

(B) imports of articles like or directly competitive with articles into which one or more component parts produced by such firm are directly incorporated, have increased;

(C) imports of articles directly incorporating one or more component parts produced outside the United States that are like or directly competitive with imports of articles incorporating one or more component parts produced by such firm have increased;

(D) imports of articles like or directly competitive with articles which are produced directly using services supplied by such firm, have increased; and

(4) the increase in imports contributed importantly to such workers' separation or threat of separation and to the decline in the sales or production of such firm; or

II. Section 222(a)(2)(B) all of the following must be satisfied:

(1) a significant number or proportion of the workers in such workers' firm have become totally or partially separated, or are threatened to become totally or partially separated;

(2) One of the following must be satisfied:

(A) there has been a shift by the workers' firm to a foreign country in the production of articles or supply of services like or directly competitive with those produced/supplied by the workers' firm;

(B) there has been an acquisition from a foreign country by the workers' firm of articles/services that are like or directly competitive with those produced/supplied by the workers' firm; and

(3) the shift/acquisition contributed importantly to the workers' separation or threat of separation.

In order for an affirmative determination to be made for adversely affected secondary workers of a firm and a certification issued regarding eligibility to apply for worker adjustment assistance, each of the group eligibility requirements of section 222(b) of the Act must be met.

(1) a significant number or proportion of the workers in the workers' firm have become totally or partially separated, or are threatened to become totally or partially separated;

(2) the workers' firm is a Supplier or Downstream Producer to a firm that employed a group of workers who received a certification of eligibility under section 222(a) of the Act, and such supply or production is related to the article or service that was the basis for such certification; and

(3) either—

(A) the workers' firm is a supplier and the component parts it supplied to the firm described in paragraph (2) accounted for at least 20 percent of the production or sales of the workers' firm; or

(B) a loss of business by the workers' firm with the firm described in paragraph (2) contributed importantly to the workers' separation or threat of separation.

In order for an affirmative determination to be made for adversely affected workers in firms identified by the International Trade Commission and a certification issued regarding eligibility to apply for worker adjustment assistance, each of the group eligibility requirements of section 222(e) of the Act must be met.

(1) the workers' firm is publicly identified by name by the International Trade Commission as a member of a domestic industry in an investigation resulting in—

(A) an affirmative determination of serious injury or threat thereof under section 202(b)(1);

(B) an affirmative determination of market disruption or threat thereof under section 421(b)(1); or

(C) an affirmative final determination of material injury or threat thereof under section 705(b)(1)(A) or 735(b)(1)(A) of the Tariff Act of 1930 (19 U.S.C. 1671d(b)(1)(A) and 1673d(b)(1)(A));

(2) the petition is filed during the 1-year period beginning on the date on which—

(A) a summary of the report submitted to the President by the International Trade Commission under section 202(f)(1) with respect to the affirmative determination described in paragraph (1)(A) is published in the Federal Register under section 202(f)(3); or

(B) notice of an affirmative determination described in subparagraph (1) is published in the Federal Register; and

(3) the workers have become totally or partially separated from the workers' firm within—

(A) the 1-year period described in paragraph (2); or

(B) not withstanding section 223(b)(1), the 1-year period preceding the 1-year period described in paragraph (2).

Affirmative Determinations for Worker Adjustment Assistance

The following certifications have been issued. The date following the company name and location of each determination references the impact date for all workers of such determination.

The following certifications have been issued. The requirements of section 222(a)(2)(A) (increased imports) of the Trade Act have been met.

TA-W No. | Subject firm | Location | Impact date
85,976 | Bonney Forge Corporation | Mount Union, PA | March 26, 2014.
90,016 | GrafTech USA LLC | Saint Marys, PA | August 18, 2014.
90,330 | Outokumpu Stainless Pipe Inc | Wildwood, FL | January 1, 2014.
91,105 | Startek, USA Inc | Grand Junction, CO | October 20, 2014.

The following certifications have been issued. The requirements of section 222(a)(2)(B) (shift in production or services) of the Trade Act have been met.

TA-W No. | Subject firm | Location | Impact date
85,066 | SunEdison, Inc., STP Manufacturing Plant, MEMC Electronic Materials, Adecco | St. Peters, MO | April 20, 2013.
85,154 | Xerox Imager Delivery Center, Global Technology Development Group Division, Imager Delivery Group, etc | El Segundo, CA | March 14, 2013.
85,254 | Sony Electronics, Inc., REMX/Select/NGroup | Carson, CA | April 21, 2013.
85,254A | Sony Electronics, Inc., Staffmark | Los Angeles, CA | April 21, 2013.
85,254B | Sony Electronics, Inc | Los Angeles, CA | April 21, 2013.
85,254C | Sony Electronics, Inc., REMX/Select and Staffmark | San Diego, CA | June 21, 2014.
85,254D | Sony Electronics, Inc., REMX/Select and Staffmark | San Jose, CA | June 21, 2014.
85,254E | Sony Electronics, Inc | Fort Myers, FL | June 21, 2014.
85,254F | Sony Electronics, Inc., Staffmark | Honolulu, HI | April 21, 2013.
85,254G | Sony Electronics, Inc., REMX/Select and Staffmark | Itasca, IL | June 21, 2014.
85,254H | Sony Electronics, Inc | Bloomington, MN | April 21, 2013.
85,254I | Sony Electronics, Inc., REMX/Select and Staffmark | Park Ridge, NJ | June 21, 2014.
85,254J | Sony Electronics, Inc., Kelly OCG, Manpower, and Staff AMIGO | Laredo, TX | April 21, 2013.
85,254K | Sony Electronics, Inc., Kelly OCG, Manpower, and Staff AMIGO | Laredo, TX | April 21, 2013.
85,254L | Sony Electronics, Inc | Redmond, WA | April 21, 2013.
85,254M | Sony Electronics, Inc., Staffmark | Middleton, WI | April 21, 2013.
85,254N | YOH/DAY Zimmerman, Sony Electronics, Inc | San Diego, CA | April 21, 2013.
85,254O | YOH/DAY Zimmerman, Sony Electronics, Inc | San Jose, CA | April 21, 2013.
85,254P | YOH/DAY Zimmerman, Sony Electronics, Inc | Park Ridge, NJ | April 21, 2013.
85,381 | Gamestop Texas, Ltd., Customer Service Department | Grapevine, TX | June 18, 2013.
85,420 | Swank, Inc., Int'l Export Sales Documentation, Randa Accessories Leather Goods LLC | Taunton, MA | July 9, 2013.
85,545 | Rural/Metro Corporation, Indiana Billing Office, WP Rocket Holdings | Indianapolis, IN | September 22, 2013.
85,594 | SuperValu, Inc., Tier 1 Helpdesk Call Center, Corporate Technologies | Boise, ID | October 13, 2013.
85,637 | Cincinnati Bell Telephone Company, LLC | Norwood, OH | November 7, 2013.
85,747 | JP Morgan Chase and Company, Consumer Banking Operations | Akron, OH | December 5, 2013.
85,834 | Mondelez International, Customer Service Operations Division, Kelly Services | Wilkes Barre, PA | February 18, 2014.
85,915 | Pfizer Inc., Global Reference Standards, Pfizer Global Supply, Artech Information, etc | Groton, CT | March 27, 2014.
86,125 | Verizon Business Network Services, Inc., Order Management | Tulsa, OK | June 23, 2014.
86,137 | Dex Media, Advantage Technical Resourcing, TAC | Williamsville, NY | June 26, 2014.
86,138 | Verizon Business Network Services, Inc., Order Management | Richardson, TX | June 25, 2014.
90,010 | Honeywell International, Inc., Automation and Control Solutions Business Group, Honeywell Scanning, etc | Lynnwood, WA | January 1, 2014.
90,025 | Alorica, West Corp | Tulsa, OK | February 1, 2015.
90,051 | World Wide Imports Inc | Kent, WA | January 1, 2014.
90,085 | Sprint United Management Company, BCOM Group | Irving, TX | January 1, 2014.
90,108 | Parker Hannifin Corporation, Instrumentation Group—Sporlan Division, Pro Resources Staffing Services | New Haven, IN | September 29, 2014.
90,108A | Leaders Staffing, Parker Hannifin Corporation, Instrumentation Group—Sporlan Division | New Haven, IN | January 1, 2014.
90,146 | Reynolds Metals Company, Alcoa Global Primary Products, Alcoa, Inc | Lake Charles, LA | January 1, 2014.
90,155 | Donaldson Company, Inc | Cresco, IA | January 1, 2014.
90,174 | Hallmark Cards, Incorporated, Technology and Business Enablement, Tata Consultancy Services | Kansas City, MO | January 1, 2014.
90,174A | Hallmark Cards, Incorporated and Hallmark Marketing Company, LLC, Consumer Solutions, Tata Consultancy Services | Kansas City, MO | January 1, 2014.
90,177 | Lufkin Industries LLC, Lufkin—Foundry, GE Oil & Gas, Double S, Weisinger Electric | Lufkin, TX | January 1, 2014.
90,187 | International Paper Company, Procure-To-Pay Group | Memphis, TN | January 1, 2014.
90,190 | Arrow International, Inc., Vascular Division, Teleflex Inc | Reading, PA | March 27, 2015.
90,190A | Office Team and Aerotek, Arrow International, Inc., Vascular Division, Teleflex Inc | Reading, PA | January 1, 2014.
90,200 | Commerzbank Aktiengesellschaft, New York Branch, Information Technology Department, Linium Resources, LLC | New York, NY | January 1, 2014.
90,227 | ResMed Motor Technologies Inc., Triad Systems International, Two Roads Professional Resources, etc | Chatsworth, CA | January 1, 2014.
90,230 | Energizer Holdings, Inc., Adecco | Westlake, OH | July 26, 2015.
90,244 | Tech Mahindra (Americas), Inc., Tech Mahindra Limited | Piscataway, NJ | January 1, 2014.
90,257 | Honeywell Sensing and Productivity Solutions, Adecco Staffing | Skaneateles Falls, NY | January 1, 2014.
90,263 | Annie's Baking, LLC, General Mills, Inc., Express Employment Professionals, etc | Joplin, MO | January 1, 2014.
90,273 | Allscripts Healthcare Solutions, Sutherland Healthcare Solutions, formerly Apollo Health Street Limited, etc | South Burlington, VT | January 1, 2014.
90,291 | Honeywell International, Inc., Corporate Information Technology, Enterprise Services | Tempe, AZ | January 1, 2014.
90,318 | International Business Machines Corporation (IBM), Global Technology Services (GTS), Dubuque Service Delivery Center, etc | Dubuque, IA | January 1, 2014.
91,054 | McDavid, Inc | Woodridge, IL | September 21, 2014.
91,071 | SKF Sealing Solutions, SKF USA, Inc., Express Employment Professionals | Hobart, OK | October 23, 2014.
91,082 | Anodex Anodizing, Inc., Kathrein Holding USA, Inc., Express Employment Professionals | Medford, OR | October 26, 2014.
91,086 | NSC Global Managed Resources LLC, Logistics and Call Coordinators | Mason, OH | October 28, 2014.
91,088 | TerraSource Global | Cuyahoga Falls, OH | October 28, 2014.
91,099 | Frontier Airlines, Inc., Milwaukee Reservations Department, Ajilon Professional Staffing | Milwaukee, WI | November 2, 2014.
91,101 | Safety Syringes, Inc., Becton, Dickinson and Company, Aerotek Commercial Staffing, etc | Carlsbad, CA | November 2, 2014.
91,110 | Triangle Brass Manufacturing Co. Inc., ILM Employment Group, Inc | Los Angeles, CA | November 4, 2014.
91,112 | ATSCO, Division of BBB Industries, LLC, Allegiance Staffing Phoenix | Phoenix, AZ | November 5, 2014.
91,131 | Aero Precision Products, LLC | Summerville, SC | November 11, 2014.
91,188 | NN, Inc. Autocam Precision Components Group, Industrial Quality Temps Inc | Wheeling, IL | December 2, 2014.
91,196 | Federal-Mogul MotorParts, Braking Division, Federal-Mogul Corp., SMX/Staffing Management, etc | Orangeburg, SC | February 6, 2016.
91,207 | LG NanoH2O, Inc., LG Chem Ltd, Kelly Temporary Services | Hawthorne, CA | December 9, 2014.
91,207A | LG NanoH2O, Inc., LG Chem Ltd, Kelly Temporary Services | El Segundo, CA | December 9, 2014.
91,260 | Vishay Siliconix, Siliconix Mosfets Division | Santa Clara, CA | December 23, 2014.

The following certifications have been issued. The requirements of Section 222(b) (supplier to a firm whose workers are certified eligible to apply for TAA) of the Trade Act have been met.

TA-W No. | Subject firm | Location | Impact date
86,135 | Harrington Machine & Tool Co. Inc | Franklin, PA | June 26, 2014.
91,198 | Chester Forest Products, LLC, W. T. Gardner & Sons, Inc | Chester, ME | December 4, 2014.
91,226 | Vani Quality Quest, Inc., Sentech Skilled Trade Services Inc | Dearborn, MI | December 14, 2014.

Negative Determinations for Worker Adjustment Assistance

In the following cases, the investigation revealed that the eligibility criteria for worker adjustment assistance have not been met for the reasons specified.

The investigation revealed that the criterion under paragraph (a)(1) or (b)(1) (employment decline or threat of separation) of section 222 has not been met.

TA-W No. | Subject firm | Location | Impact date
85,285 | Wave Accounting Inc. (Delaware), Including Workers whose UI Wages Reported thru Wave Accounting Inc | Wilmington, DE
85,285A | Wave Accounting Inc. (Delaware), Including Workers whose UI Wages Reported thru Wave Accounting Inc | Webster, NY
85,603 | Eighth Floor Promotions | Celina, OH
85,612 | CA Technologies | Plano, TX
85,645 | Cardinal Health | McDonough, GA
85,814 | Grape Solar, Inc | Eugene, OR
90,118 | RR Donnelley, Financial Business Unit | Philadelphia, PA

The investigation revealed that the criteria under paragraphs (a)(2)(A)(i) (decline in sales or production, or both) and (a)(2)(B) (shift in production or services to a foreign country) of section 222 have not been met.

TA-W No. | Subject firm | Location | Impact date
85,351 | Gold Inc. D/B/A Goldbug, Inc., Sourcing Division | Aurora, CO
85,806 | Premier Tech Chronos, VonGal Division, Premier Tech Inc., Workforce and Career Personnel | Montgomery, AL

The investigation revealed that the criteria under paragraphs (a)(2)(A) (increased imports) and (a)(2)(B) (shift in production or services to a foreign country) of section 222 have not been met.

TA-W No. | Subject firm | Location | Impact date
85,263 | SC&H Group, Real Tax Department | Sparks, MD
85,420A | Swank, Inc., Accounting and Finance, Credit Collections, Chargeback Resolution, etc | Taunton, MA
85,609 | RNYK LLC D.B.A. J &amp; R Music World | New York, NY
85,788 | Engineered Polymer Solutions, (aka EPS, DBA Valspar Coatings), Architectural/Consumer, Aerotek, etc | Garland, TX
85,797 | Revett Mining Company, Inc., Troy Mine, Inc., Revett Silver Company | Troy, MT
85,937 | Advanced Supply Chain International, LLC, BP Explorations (Alaska) Inc., Procurement Division | Anchorage, AK
85,937A | Advanced Supply Chain International, LLC, BP Explorations (Alaska) Inc., Prudhoe Bay (North Slope) Division | Prudhoe Bay, AK
85,977 | Sanguine Gas Exploration, LLC | Tulsa, OK
86,005 | DCP Midstream, A Joint Venture Between Spectra Energy and Phillips 66 | Tulsa, OK
86,031 | Oil States Industries, Inc., American Staffcorp | Tulsa, OK
86,055 | Aztec Well Servicing, Aztec Drilling, Triple S Trucking Company, Double M Sales, etc | Aztec, NM
86,055A | Aztec Well Servicing, Aztec Drilling, Triple S Trucking Company | Hobbs, NM
86,072 | ConocoPhillips, Bartlesville Shared Services, Associated Resources, Primary Services, etc | Bartlesville, OK
86,117 | ConocoPhillips San Juan Business Unit, Ayan Tech Solutions, Baker Petrolite, Baker Hughes Oilfield, etc | Farmington, NM
90,021 | Digitec, Inc., Lindsay Corporation, Elecsys Corp., Betty's Bunch Temporaries | Milford, NE
90,164 | Bay Side Recycling Company, LLC | Duluth, MN
90,165 | Retro Systems LLC, Labormax and Choson Resource | Valley Center, KS
90,169 | Bradford Supply Company | Robinson, IL
90,186 | Grays Harbor Community Hospital (East Campus), Health Information Management Department | Aberdeen, WA
90,256 | Phoenix Technology Services USA Inc., Superior Talent Resources, Automation Personnel Services, etc | Houston, TX
91,043 | QEP Energy Company | Tulsa, OK

Determinations Terminating Investigations Of Petitions For Worker Adjustment Assistance

After notice of the petitions was published in the Federal Register and on the Department's Web site, as required by section 221 of the Act (19 U.S.C. 2271), the Department initiated investigations of these petitions.

The following determinations terminating investigations were issued because the petitioner has requested that the petition be withdrawn.

TA-W No. | Subject firm | Location | Impact date
86,077 | HARMAN | Northridge, CA
90,254 | Leggett & Platt Springs Manufacturing, LLC, Leggett & Platt, Inc | Delano, PA
91,024 | Applied Leverage Technology | Sanford, ME
91,206 | TGI Fridays | Carrollton, TX

The following determinations terminating investigations were issued in cases where these petitions were not filed in accordance with the requirements of 29 CFR 90.11. Every petition filed by workers must be signed by at least three individuals of the petitioning worker group. Petitioners separated more than one year prior to the date of the petition cannot be covered under a certification of a petition under section 223(b), and therefore, may not be part of a petitioning worker group. For one or more of these reasons, these petitions were deemed invalid.

TA-W No. | Subject firm | Location | Impact date
90,116 | Riverside Veneer Company, Inc | Heuvelton, NY

The following determinations terminating investigations were issued because the petitioning groups of workers are covered by active certifications. Consequently, further investigation in these cases would serve no purpose since the petitioning group of workers cannot be covered by more than one certification at a time.

TA-W No. | Subject firm | Location | Impact date
85,694 | Tyco Fire Protection Products, Technical Services Division | Westminster, MA
91,026 | Advanced Micro Devices, Inc., Volt and HCL America, Inc | Austin, TX
91,066 | Sony Electronics, Inc | Park Ridge, NJ

The following determinations terminating investigations were issued because the petitions are the subject of ongoing investigations under petitions filed earlier covering the same petitioners.

TA-W No. | Subject firm | Location | Impact date
91,202 | Covidien | Mansfield, MA

I hereby certify that the aforementioned determinations were issued during the period of November 9, 2015 through December 11, 2015. These determinations are available on the Department's Web site www.tradeact/taa/taa_search_form.cfm under the searchable listing of determinations or by calling the Office of Trade Adjustment Assistance toll free at 888-365-6822.

Signed at Washington, DC, this 12th day of January 2016.
Jessica R. Webster,
Certifying Officer, Office of Trade Adjustment Assistance.

[FR Doc. 2016-01868 Filed 2-2-16; 8:45 am]

BILLING CODE 4510-FN-P